DEPARTMENT OF LABOR

Office of the Secretary

Submission for OMB Review: Comment Request

September 15, 2006.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting the Department of Labor (DOL). To obtain documentation, contacting Darrin King on 202-693-4129 (this is not a toll-free number) or e-mail: king.darrin@dol.gov.

Comments should be sent to Office of Information and Regulatory Affairs, Attn: OMB Desk Officer for the Bureau of Labor Statistics (BLS), Office of Management and Budget, Room 10235, Washington, DC 20503, 202-395-7316 (these are not a toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics.

Type of Review: Revision of a currently approved collection.

Title: National Longitudinal Survey of Youth 1997.

OMB Number: 1220-0157.

Frequency: Annually.

Type of Response: Reporting.

Affected Public: Individuals or households.

Number of Respondents: 7,700.

From | Total responses | Average time per response (minutes) | Estimated total burden (hours)
Main Round 10 Interview | 7,500 | 60 | 7,500
Round 10 Validation Interview | 750 | 6 | 75
Round 11 Pretest | 200 | 60 | 200
Totals | 8,450 | ........ | 7,775

Total Annualized capital/startup costs: $0

Total Annual Costs (operating/maintaining systems or purchasing services): $0

Description: The information obtained in this survey will be used by the Department of Labor, other government agencies, academic researchers, the news media, and the general public to understand the employment experiences and school-to-work transitions of young men and women born in the years 1980 to 1984.

Ira L. Mills,
Departmental Clearance Officer

[FR Doc. 06-7908 Filed 9-19-06; 8:45 am]

BILLING CODE 4510-24-U